DEPARTMENT OF ENERGY

Federal Energy Regulatory Commission

Combined Notice of Filings #2

Take notice that the Commission received the following exempt wholesale generator filings:

Docket Numbers: EG22-48-000.

Applicants: New Market Solar ProjectCo 1, LLC.

Description: Notice of Self-Certification of Exempt Wholesale Generator Status.

Filed Date: 2/1/22.

Accession Number: 20220201-5167.

Comment Date: 5 p.m. ET 2/22/22.

Docket Numbers: EG22-49-000.

Applicants: New Market Solar ProjectCo 2, LLC.

Description: Notice of Self-Certification of Exempt Wholesale Generator Status.

Filed Date: 2/1/22.

Accession Number: 20220201-5182.

Comment Date: 5 p.m. ET 2/22/22.

Take notice that the Commission received the following electric rate filings:

Docket Numbers: ER20-1951-002.

Applicants: Mid-Atlantic Interstate Transmission, LLC, PJM Interconnection, L.L.C.

Description: Compliance filing: Mid-Atlantic Interstate Transmission, LLC submits tariff filing per 35: MAIT submits Order No. 864 Compliance Filing in ER20-1951 to be effective 1/27/2020.

Filed Date: 2/1/22.

Accession Number: 20220201-5137.

Comment Date: 5 p.m. ET 2/22/22.

Docket Numbers: ER22-306-002.

Applicants: Duke Energy Carolinas, LLC.

Description: Tariff Amendment: DEF—Errata to Filing of Revised Depreciation Rates 1.31 to be effective 1/1/2022.

Filed Date: 1/31/22.

Accession Number: 20220131-5383.

Comment Date: 5 p.m. ET 2/10/22.

Docket Numbers: ER22-957-000.

Applicants: PJM Interconnection, L.L.C.

Description: Report Filing: Supplemental Filing to ER22-957-000—Correcting Uploaded File to Attach. A to be effective N/A.

Filed Date: 2/1/22.

Accession Number: 20220201-5078.

Comment Date: 5 p.m. ET 2/7/22.

Docket Numbers: ER22-961-000.

Applicants: Pacific Gas and Electric Company.

Description: Tariff Amendment: Termination of CCSF Potrero E&P Agreements (TO SA 284) to be effective 4/3/2022.

Filed Date: 2/1/22.

Accession Number: 20220201-5116.

Comment Date: 5 p.m. ET 2/22/22.

Docket Numbers: ER22-962-000.

Applicants: PJM Interconnection, L.L.C.

Description: Compliance filing: Order No. 2222 Compliance Filing and Motion for Extended Comment Period to be effective 7/1/2023.

Filed Date: 2/1/22.

Accession Number:20220201-5120.

Comment Date: 5 p.m. ET 2/22/22.

Docket Numbers: ER22-963-000.

Applicants: California Independent System Operator Corporation, Pacific Gas and Electric Company, Southern California Edison Company.

Description: Petition for Approval of Uncontested Settlement Agreement of California Independent System Operator Corporation, et. al.

Filed Date: 1/31/22.

Accession Number: 20220131-5512.

Comment Date: 5 p.m. ET 2/22/22.

Docket Numbers: ER22-964-000.

Applicants: PacifiCorp.

Description: § 205(d) Rate Filing: Nevada Power Transmission Facilities Agreement Rev 3 to be effective 3/12/2022.

Filed Date: 2/1/22.

Accession Number: 20220201-5158.

Comment Date: 5 p.m. ET 2/22/22.

Docket Numbers: ER22-965-000.

Applicants: Covanta Delaware Valley, L.P.

Description: Baseline eTariff Filing: Reactive Power Tariff Application to be effective 3/1/2022.

Filed Date: 2/1/22.

Accession Number: 20220201-5186.

Comment Date: 5 p.m. ET 2/22/22.

Docket Numbers: ER22-966-000.

Applicants: Covanta Essex Company.

Description: Baseline eTariff Filing: Reactive Power Tariff Application to be effective 3/1/2022.

Filed Date: 2/1/22.

Accession Number: 20220201-5189.

Comment Date: 5 p.m. ET 2/22/22.

Docket Numbers: ER22-967-000.

Applicants: Covanta Fairfax, LLC.

Description: Initial rate filing: Reactive Power Tariff Application to be effective 3/1/2022.

Filed Date: 2/1/22.

Accession Number: 20220201-5204.

Comment Date: 5 p.m. ET 2/22/22.

Docket Numbers: ER22-968-000.

Applicants: Covanta Plymouth Renewable Energy, LLC.

Description: Baseline eTariff Filing: Reactive Power Tariff Application to be effective 3/1/2022.

Filed Date: 2/1/22.

Accession Number: 20220201-5218.

Comment Date: 5 p.m. ET 2/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2022.
Debbie-Anne A. Reese,
Deputy Secretary.

[FR Doc. 2022-02541 Filed 2-7-22; 8:45 am]

BILLING CODE 6717-01-P